DEPARTMENT OF HEALTH AND HUMAN SERVICES

Administration for Children and Families

Proposed Information Collection Activity; Comment Request

Proposed Projects

Title: Head Start Program Grant Application and Budget Instrument.

OMB No.: 0970-0207.

Description: The Head Start Bureau is proposing to renew, without changes, the Head Start Grant Application and Budget Instrument, which standardizes the grant application information that is requested from all Head Start and Early Head Start grantees applying for continuation grants. The application and budget forms are available on a data diskette and on the Web at http://www.acfgabi.com. Completed applications can be transmitted electronically to Regional and Central Offices. The Administration on Children, Youth and Families believes that this application document makes the process of applying for Head Start program grants more efficient for applicants.

Respondents: Head Start and Early Head Start grantees.

Annual Burden Estimates
Instrument | Number of respondents | Number of responses per respondent | Average burden hours per response | Total burden hours
HS Grant and Budget Instrument | 1,600 | 1 | 33 | 52,800

Estimated Total Annual Burden Hours: 52,800.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 18, 2006.
Robert Sargis,
Reports Clearance Officer.

[FR Doc. 06-4851 Filed 5-24-06; 8:45 am]

BILLING CODE 4184-01-M